DEPARTMENT OF COMMERCE

National Oceanic and Atmospheric Administration

50 CFR Part 679

[Docket No. 991228352-0012-02; I.D. 081800B]

Fisheries of the Exclusive Economic Zone Off Alaska; Pollock in Statistical Areas 620 and 630 in the Gulf of Alaska

AGENCY: National Marine Fisheries Service (NMFS), National Oceanic and Atmospheric Administration (NOAA), Commerce.

ACTION: Modification of a closure.

SUMMARY: NMFS is opening directed fishing for pollock by catcher vessels that are non-exempt under the American Fisheries Act (AFA) in Statistical Areas 620 and 630 of the Gulf of Alaska (GOA). This action is necessary to allow non-exempt catcher vessels to participate in the pollock fishery in these areas consistent with regulations implementing the AFA.

DATES: Effective 1200 hrs, Alaska local time (A.l.t.), August 20, 2000.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The amounts of the 2000 GOA AFA catcher vessel sideboards in Statistical Areas 620 and 630 were established by the Emergency Interim Rule to Implement Major Provisions of the American Fisheries Act (65 FR 4520, January 28, 2000, and extended at 65 FR 39107, June 23, 2000) as 864 mt, and 1,787 mt respectively in accordance with § 679.63(b).

In Statistical Area 620, the Administrator, Alaska Region, NMFS (Regional Administrator), has established a directed fishing allowance of 814 mt, and set aside the remaining 50 mt as bycatch to support other anticipated groundfish fisheries for this component of the fishery. In Statistical Area 630, the Regional Administrator has established a directed fishing allowance of 1,687 mt, and set aside the remaining 100 mt as bycatch to support other anticipated groundfish fisheries for this component of the fishery. These areas of the GOA were closed to directed fishing for pollock by non-exempt AFA vessels on January 21, 2000 (65 FR 4520, January 28, 2000).

NMFS has determined that as of August 12, 2000, 814 mt remain in the directed fishing allowance for Statistical Area 620 and 1,687 mt remain in the directed fishing allowance for Statistical Area 630. Therefore, NMFS is terminating the previous closure and is opening directed fishing for pollock by catcher vessels that are non-exempt under the AFA in Statistical Area 620 and Statistical Area 630 of the GOA.

Classification

All other closures remain in full force and effect. This action responds to the best available information recently obtained from the fishery. It must be implemented immediately in order to allow participation of catcher vessels that are non-exempt under the AFA. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under Executive Order 12866.

Authority: 16 U.S.C. 1801 et seq.

Dated: August 18, 2000.
Richard W. Surdi,
Acting Director, Office of Sustainable Fisheries, National Marine Fisheries Service.

[FR Doc. 00-21508 Filed 8-18-00; 2:12 pm]

BILLING CODE 3510-22-F